DEPARTMENT OF THE INTERIOR

Fish and Wildlife Service

[FWS-HQ-ES-2017-0104; FXIA16710900000-156-FF09A30000]

Foreign Endangered Species; Issuance of Permits

AGENCY: Fish and Wildlife Service, Interior.

ACTION: Notice of issuance of permits.

SUMMARY: We, the U.S. Fish and Wildlife Service, have issued permits to conduct activities with endangered and threatened species under the authority of the Endangered Species Act, as amended (ESA). With some exceptions, the ESA prohibits activities involving listed species unless a Federal permit is issued that allows such activity.

ADDRESSES: Information about the applications for the permits listed in this notice is available online at www.regulations.gov. See SUPPLEMENTARY INFORMATION for details.

FOR FURTHER INFORMATION CONTACT: Joyce Russell, 703-358-2023.

SUPPLEMENTARY INFORMATION: We, the U.S. Fish and Wildlife Service, have issued permits to conduct certain activities with endangered and threatened species in response to permit applications that we received under the authority of section 10(a)(1)(A) of the Endangered Species Act of 1973 (16 U.S.C. 1531 et seq.; ESA).

After considering the information submitted with each permit application and the public comments received, we issued the requested permits subject to certain conditions set forth in each permit. For each application for an endangered species, we found that (1) the application was filed in good faith, (2) the granted permit would not operate to the disadvantage of the endangered species, and (3) the granted permit would be consistent with the purposes and policy set forth in section 2 of the ESA.

Availability of Documents

The permittees' original permit application materials, along with public comments we received during public comment periods for the applications, are available for review. To locate the application materials and received comments, go to www.regulations.gov and search for the appropriate permit number (e.g., 12345C) provided in the following table:

Permit No. | Applicant | Permit issuance date
65009A | William B. Montgomery | December 6, 2017.
32933C | Mario A. Gutierrez | December 6, 2017.
44006C | Houston Zoo, Inc | December 11, 2017.
99140B | Zooworld Zoological | December 11, 2017.
95720B | McCarthy's Wildlife Sanctuary | December 14, 2017.
35535C | Richard Frank Rueden | December 18, 2017.
67438A | Jack Phillips | December 18, 2017.
69947A | Bruce H. Fairchild | December 19, 2017.
15139C | Omaha's Henry Doorly Zoo & Aquarium | December 19, 2017.
70470A | Lucky 7 Exotics Ranch | December 19, 2017.
39695C | Joseph F. Mandola | November 14, 2017.
72630A | Ripley's Aquarium | November 14, 2017.
761887 | American Museum of Natural History | November 14, 2017.
280059C | Columbus Zoo & Aquarium | November 14, 2017.
34507C | St. Catherines Island Foundation | November 21, 2017.
362003C | Wildlife Conservation Society | November 30, 2017.

Authority

We issue this notice under the authority of the ESA, as amended (16 U.S.C. 1531 et seq.).

Joyce Russell,
Government Information Specialist, Branch of Permits, Division of Management Authority.

[FR Doc. 2018-07070 Filed 4-5-18; 8:45 am]

BILLING CODE 4333-15-P